DEPARTMENT OF AGRICULTURE

Office of the Assistant Secretary for Civil Rights

Request for an Extension to a Currently Approved Information Collection

AGENCY: Office of the Assistant Secretary for Civil Rights.

ACTION: Notice and request for comments.

SUMMARY: In accordance with the Paperwork Reduction Act of 1995 (44 U.S.C. Chapter 35), this notice announces the Office of the Assistant Secretary for Civil Rights' (OASCR) intention to request approval from the Office of Management and Budget (OMB) for an extension of the currently approved information collection for the U.S. Department of Agriculture (USDA)/1994 Tribal Scholars Program.

As required by Departmental Regulation 1350-001, Tribal Consultations, (Consultation on Regulations) has been met in a meaningful and timely manner. The partnership between USDA and Tribal Colleges and Universities (TCU) is defined by a Memorandum of Agreement (MOA) signed on February 6, 2008, between USDA and the American Indian Higher Education Consortium (AIHEC). This MOA convenes USDA Mission Area leadership, TCU Presidents and AIHEC to jointly develop the USDA/1994 Program Office and its programs, to include the Tribal Scholars Program. USDA has presented its proposals for the Tribal Scholars Program to Indian tribal leaders through the invitation of the National Congress of American Indians in 2008 and to TCU president members of the USDA/AIHEC Leadership Group, most recently in 2009 and beginning in 2005.

DATES: Comments on this notice must be received by June 23, 2009 to be assured of consideration.

Additional Information or Comments: Contact Lawrence Shorty, Director, USDA/1994 Program, OASCR, USDA, 1400 Independence Ave., SW., Washington, DC 20250; phone (202) 720-1772: fax: (202) 205-3831.

SUPPLEMENTARY INFORMATION:

Title: USDA/1994 Tribal Scholars Program.

OMB Number: 0503-0016.

Expiration Date of Approval: August 31, 2009.

Type of Request: Extension to the currently approved information collection.

Abstract: The purpose of the USDA/1994 Tribal Scholars Program is to strengthen the long-term partnership between USDA and the 1994 Land-Grant TCUs to increase the number of students studying and graduating in the food, agriculture, and natural resources and other related fields of study, and offer career opportunities to increase the pool of scientists and professionals to annually fill 50,000 jobs in the food, agricultural, and natural resources system.

This partnership effort is a joint human capital initiative between USDA and the Nation's thirty-two 1994 Land-Grant TCUs. This employment program offers a combination of work experience and academic study leading to career positions within USDA through a Student Career Experience Program (SCEP) designed to integrate classroom study with paid work experience. The program is conducted in accordance with a planned schedule and a working agreement between USDA agencies, the student, and the Land-Grant Institution.

Summary of Collection: The USDA/1994 Tribal Scholars Program Application will request from applicants information such as the following: biographical information; educational background; an official high school or college transcript; declaration of major, résumé, schools attended in the last 4 years; advanced or special programs; courses or summer courses taken; name of the 1994 TCU in which the student wishes to enroll; course of study the applicant wishes to pursue; type of scholarship support the applicant is applying for (1-year, 2-year; 3-year or 4-year scholarship support); whether the applicant is currently enrolled in or is planning to enroll in an Associate Degree (2-year) program with no plans to continue to a Bachelor's Degree; whether the applicant intends to transfer to a 4-year Bachelor's Degree program and in what course of study; whether there is a desire to obtain a Master's or higher degree; activities participated in outside of school; volunteer services or jobs held during last 3 years, including summer employment; a 500-800 word essay describing how the applicant became interested in studying food, agricultural, and related natural resources sciences or another related discipline in college; how USDA will benefit if the applicant is selected for the USDA/1994 Tribal Scholars Program; what motivated the applicant to consider a public service career working for USDA; information about the applicant's educational and career goals, and how the scholarship may assist the applicant to achieve educational and career goals.

The application requests two letters of recommendation that comment on the applicant's personal strengths, leadership qualities, academic and extracurricular achievements, and future academic and career goals from previous school counselors, teachers, principals, or current or previous employers for applicants who are entering freshmen 0-2 years out of high school or entering freshmen who are General Educational Development earners.

If selected, student must sign up for the SCEP; furnish course registration at the start of each school term; provide verification of academic status at the end of each academic term (grade report or transcript); must meet academic standards as set forth by the school they are attending; maintain satisfactory progress in completing academic requirements, and demonstrate satisfactory performance and conduct. Students will be required to complete all academic requirements for the target position as stipulated by the Office of Personnel Management Qualification Standards.

Need and Use of the Information: The information is needed for identifying applicants that match the human capital needs of USDA agencies from 1994 Land-Grant Institutions through SCEP and an award of an annually reviewed and renewed scholarship at a Land-Grant Institution with the objective of preparing the student for successful placement into the USDA's permanent workforce.

Estimate of Burden: Public reporting burden for this collection of information is estimated to average 1.2 hours per response.

Type of Respondents: Individuals attending or interested in attending 1994 Land Grant Institutions, teachers, principals, and guidance counselors.

Estimated Number of Respondents: 480.

Estimated Number of Responses: 1440.

Estimated Number of Responses per Respondent: 3.

Estimated Total Annual Burden on Respondents: 4320.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Lawrence Shorty, Director, USDA/1994 Program, OASCR, USDA, 1400 Independence Ave., SW., Mail Stop 9577, Washington, DC 20250. All comments received will be available for public inspection during regular business hours at the same address.

All responses to this notice will be summarized and included in the request for OMB approval. All comments will become a matter of public record.

Lawrence Shorty,
Director, USDA/1994 Program, Office of the Assistant Secretary for Civil Rights, U.S. Department of Agriculture.

[FR Doc. E9-9288 Filed 4-23-09; 8:45 am]

BILLING CODE P